FEDERAL COMMUNICATIONS COMMISSION

47 CFR Part 20

[CC Docket No. 92-105; FCC 00-327]

Implementation of 911 Act; the Use of N11 Codes and Other Abbreviated Dialing Arrangements; Compatibility with 911 Emergency Calling Systems

AGENCY: Federal Communications Commission.

ACTION: Notice of proposed rulemaking.

SUMMARY: In this document the Commission seeks comment on the appropriate means for providing reasonable transition periods to allow wireline and wireless carriers the necessary time to convert to the use of 911 as the universal emergency assistance number throughout the United States. The establishment of transition periods will serve the public interest by providing wireline and wireless carriers the necessary time to implement the modifications to their networks to achieve universal usage of 911.

DATES: Comments are due on or before October 16, 2000, and reply comments are due on or before November 15, 2000. Public comment on the information collections are due November 20, 2000, and comments by the Office of Management and Budget (OMB) are due January 17, 2001.

ADDRESSES: Send comments and reply comments to the Office of the Secretary, Federal Communications Commission, Washington, DC 20554. In addition to filing comments with the Secretary, a copy of any comments on the information collections contained herein should be submitted to

Judy Boley, Federal Communications Commission, Room 1-C804, 445 12th Street, SW., Washington, DC 20554, or via the Internet to jboley@fcc.gov, and to

Ed Springer, OMB Desk Officer, 10236 NEOB, 725 17th Street, NW., Washington, DC 20503 or via the Internet to Edward.Springer@omb.eop.gov.

FOR FURTHER INFORMATION CONTACT: Cheryl Callahan, Network Services Division, Common Carrier Bureau at 202-418-2320; David Siehl, Policy Division, Wireless Telecommunications Bureau at 202-418-1310. For further information concerning the information collection contained in this Third Notice of Proposed Rulemaking, contact Judy Boley, Federal Communications Commission, 202-418-0214, or via the Internet at jboley@fcc.gov.

SUPPLEMENTARY INFORMATION: This is a summary of the Commission's Third NPRM of Proposed Rulemaking (Third NPRM) in CC Docket No. 92-105; FCC 00-327, adopted August 24, 2000, and released August 29, 2000. The complete text of this Third NPRM is available for inspection and copying during normal business hours in the FCC Reference Information Center, Courtyard Level, 445 12th Street, SW., Washington, DC, and also may be purchased from the Commission's copy contractor, International Transcription Services (ITS, Inc.), CY-B400, 445 12th Street, SW., Washington, DC.

Synopsis of the Third NPRM of Proposed Rulemaking

1. This Third NPRM of Proposed Rulemaking (Third NPRM) is a Notice of Proposed Rulemaking on transition periods for areas in which 911 is not in use as an emergency telephone number. The Commission seeks comment on how to provide for transition periods.

2. The Wireless Communications and Public Safety Act of 1999 (911 Act) provides that the Commission shall designate 911 as the universal emergency telephone number within the United States for both wireline and wireless telephone service. It further directs the Commission, in designating 911, to “provide appropriate transition periods for areas in which 911 is not in use as an emergency telephone number.”

3. The deployment of 911 emergency service as it is generally known in this country has two primary components. First, all telecommunications carriers' equipment (including switching and signaling equipment) must recognize the abbreviated dialing code “911” and direct such calls along with certain other necessary signaling and location information to the pre-designated or specified location where personnel are available to receive reports of emergencies. Second, equipment and personnel must exist to receive 911 calls. Generally, such equipment and personnel are located in Public Safety Answering Points (PSAPs), which are established and maintained by State and local authorities.

4. The Commission recognizes that communities throughout the United States are at differing points relative to implementation of 911. Many State and local authorities already have implemented access via 911 to PSAPs that can dispatch the appropriate emergency personnel for the particular emergency situation. On the opposite end of the spectrum, some communities may not use 911 or any other abbreviated dialing code, may not have PSAPs in place, and may provide access to police, fire, ambulance, and other emergency services by dialing a seven or ten-digit telephone number. Between these two ends of the spectrum, the Commission recognizes that a variety of conditions exist, including communities that use PSAPs but provide access to them via seven or ten-digit telephone numbers or abbreviated dialing code other than 911. In addition, there are communities that provide access to some emergency services via an abbreviated dialing code but have not established PSAPs. Implementation of the 911 abbreviated dialing code should recognize the varying conditions that exist in communities throughout this country.

5. The transition to the nationwide use of 911 as the emergency service number will involve the coordinated efforts of the States and localities, PSAPs, telecommunications service providers, and other entities. The 911 Act provides for reasonable transition periods for those areas where 911 is not currently the emergency number. A transition period will provide wireline and wireless carriers the necessary time to implement the technical modifications to their networks. In addition, such a period will permit translation of 911 at the appropriate network points into the emergency number in use by the PSAPs in a particular jurisdiction. The legislative history accompanying the 911 Act also indicates an intent that these transition periods should be determined by service area-specific circumstances and capabilities.

6. The Commission seeks comment on the technical and operational issues that should be taken into account in adopting transition periods that will allow carriers sufficient time to transition to the use of 911 as an emergency telephone number. For example, carriers' transition to the 911 emergency number may require, among other things, development and operation of database systems, certain network modifications to current emergency dialing patterns, and hardware or software purchases and upgrades. The Commission seeks comment on all of the steps that carriers must undertake to transition to the use of 911 and suggested timeframes that will allow carriers to complete those steps as expeditiously as possible. In addition, the Commission seeks comment on the particular technical and operational issues presented by a requirement that the carriers offer 911 service to their subscribers, regardless of whether a PSAP is in place to receive 911 calls.

7. The Commission also seeks comment on whether certain telecommunications service providers will need more time to transition to the use of 911 than other service providers. For example, the Commission seeks comment on whether wireless carriers would require a longer transition period and if so, the unique circumstances applicable to wireless carriers that justify a longer transition period. The Commission seeks specific input on what factors will affect the transition periods required by different categories of carriers and what timeframes would be necessary to accommodate such factors. Further, the Commission seeks comment on any other factors that may affect the timeframe in which a carrier will be able to transition to the use of 911 in areas currently using another emergency telephone number. The Commission also seeks comment on measures it may take to encourage cooperative efforts by all affected parties during the transition to universal 911 usage.

8. Furthermore, where a locality has no PSAP or centralized emergency service program, the Commission seeks comment on the scope of carriers' obligation to direct 911 calls to a local fire, police, or other emergency service provider in such areas. The Commission recognizes that in this type of situation various logistical difficulties are presented and observe that PSAPs were established precisely to deal with the problem of ensuring the proper routing of 911 calls. Because of the logistical difficulties the Commission believes carriers would face, it tentatively concludes that it should not impose any particular obligation on carriers to transmit 911 calls to a particular local agency or similar destination in areas where State or local authorities have not established a PSAP or other answering point to which such calls can be routed. The Commission seeks comment on this tentative conclusion and any matter related to it that is relevant in establishing appropriate transition periods.

9. To enable the Commission to evaluate the progress made during the transition periods, the Third NPRM tentatively concludes that it would be useful and appropriate to monitor the progress of carriers in transitioning to the universal usage of 911 as the emergency telephone number. To assist the Commission in its monitoring effort, comment is sought on whether it should require carriers to file transition reports and, if so, the nature, extent, and timing of the information to be provided.

Administrative Matters

Ex Parte Presentations

10. The Third NPRM in CC Docket No. 92-105 is a permit-but-disclose notice and comment rulemaking proceeding. Members of the public, therefore, are advised that ex parte presentations are permitted, except during the Sunshine Agenda period, provided they are disclosed under the Commission's Rules.

Comment Filing Dates and Procedures

11. Pursuant to applicable procedures set forth in §§ 1.415 and 1.419 of the Commission's Rules, interested parties may file comments in response to the Third Notice of Proposed Rulemaking in CC Docket No. 92-105 on or before October 16, 2000, and reply comments on or before November 15, 2000. Comments and reply comments should be filed in combined CC Docket No. 92-105 and WT Docket No. 00-110 and should include a separate heading to identify the comments for each Docket Number. All relevant and timely comments will be considered by the Commission before final action is taken in this proceeding. To file formally, interested parties must file an original and four copies of all comments, reply comments, and supporting comments. If interested parties want each Commissioner to receive a personal copy of their comments, they must file an original plus nine copies. Interested parties should send comments and reply comments to the Office of the Secretary, Federal Communications Commission, Room TW-A325, 445 Twelfth Street, SW., Washington, DC 20554, with copies to David Siehl, Policy Division, Wireless Telecommunications Bureau, and to Cheryl Callahan, Network Services Division, Common Carrier Bureau, at 445 Twelfth Street, SW., Washington, DC 20554.

12. Comments also may be filed using the Commission's Electronic Comment Filing System (ECFS). Comments filed through the ECFS can be sent as an electronic file via the Internet to http://www.fcc.gov/e-mail/ecfs.html. Generally, only one copy of an electronic submission must be filed. In completing the transmittal screen, commenters should include their full name, Postal Service mailing address, and the applicable docket or rulemaking numbers. Parties also may submit an electronic comment by Internet E-Mail. To obtain filing instructions for E-Mail comments, commenters should send an e-mail to ecfs@fcc.gov, and should include the following words in the body of the message, “get form <your E-Mail address>.” A sample form and directions will be sent in reply.

13. Comments and reply comments will be available for public inspection during regular business hours at the FCC Reference Center, Room CY-A257, at the Federal Communications Commission, 445 Twelfth Street, SW., Washington, DC 20554. Copies of comments and reply comments are available through the Commission's duplicating contractor: International Transcription Service, Inc. (ITS, Inc.), 1231 20th Street, NW., Washington, DC 20037, (202) 857-3800.

Paperwork Reduction Act of 1995 Analysis

14. The actions contained in this Third NPRM have been analyzed with respect to the Paperwork Reduction Act of 1995 and found to impose a new reporting requirement or burden on the public. Implementation of this new reporting requirement will be subject to approval by the Office of Management and Budget, as prescribed by the Act.

Initial Regulatory Flexibility Act Analysis—Third NPRM

15. This Initial Regulatory Flexibility Analysis (IRFA) in this Third NPRM is limited to matters addressed in the Third NPRM. This IRFA conforms to the RFA. (See 5 U.S.C. 604.)

16. This is a summary of the full IRFA. The full IRFA may be found in Appendix A of the full text of this Third NPRM.

I. Need for, and Objectives of, the Third NPRM

17. As required by the Regulatory Flexibility Act (RFA) (See 5 U.S.C. 604. The RFA, see 5 U.S.C. 601 et seq., was amended by the Contract With America Advancement Act of 1996, Public Law 104-121, 110 Stat. 847 (1996) (CWAAA). Title II of the CWAAA is the Small Business Regulatory Enforcement Fairness Act of 1996 (SBREFA) an Initial Regulatory Flexibility Analysis (IRFA), the Commission has prepared an Initial Regulatory Flexibility Analysis (IRFA) of the possible significant economic impact on small entities by the policies and rules proposed in this Third NPRM, CC Docket No. 92-105. Written public comments are requested on this IRFA. Comments must be identified as responses to the IRFA and must be filed by the deadlines for comments on the Third NPRM as provided in paragraph 35 of the full text of the Third NPRM. The Commission will send a copy of the Third NPRM, including this IRFA, to the Chief Counsel for Advocacy of the Small Business Administration. See 5 U.S.C. 603(a).

A. Need for, and Objectives of, the Proposed Rules

18. The Third NPRM is an important step toward implementation of the Wireless Communications and Public Safety Act of 1999 (911 Act). Section 3(e) of the 911 Act directs the Commission to provide appropriate transition periods for areas in which 911 is not in use as an emergency telephone number on the date of enactment of the 911 Act. The Third NPRM seeks comment on the technical and operational issues that should be taken into account in adopting transition periods that will allow carriers sufficient time to transition to the use of 911 as an emergency telephone number. Thus, the Commission intends for the Third NPRM to stimulate participation by interested parties in our effort to provide for reasonable transition periods.

B. Legal Basis for Proposed Rules

19. The proposed action is authorized under sections 1, 4(i), 4(j), 7, 10, 201, 202, 208, 214, 251(e)(3), 301, 303, 308, 309(j), and 310 of the Communications Act of 1934, 47 U.S.C. 151, 154(i), 154(j), 157, 160, 201, 202, 208, 214, 251(e)(3), 301, 303, 308, 309(j), 310.

C. Description and Estimate of the Number of Small Entities to Which the Proposed Rules Will Apply

20. The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under Section 3 of the Small Business Act, unless the Commission has developed one or more definitions that are appropriate for its activities. Under the Small Business Act, a “small business concern” is one that: (1) Is independently owned and operated; (2) is not dominant in its field of operation; and (3) satisfies any additional criteria established by the Small Business Administration (SBA). A small organization is generally “any not-for-profit enterprise which is independently owned and operated and is not dominant in its field.” Nationwide, as of 1992, there were approximately 275,801 small organizations.

21. The definition of “small governmental entity” is one with populations of fewer than 50,000. There are 85,006 governmental entities in the nation. This number includes such entities as States, counties, cities, utility districts and school districts. There are no figures available on what portion of this number has populations of fewer than 50,000. However, this number includes 38,978 counties, cities and towns, and of those, 37,556, or ninety-six percent, have populations of fewer than 50,000. The Census Bureau estimates that this ratio is approximately accurate for all government entities. Thus, of the 85,006 governmental entities, we estimate that ninety-six percent, or about 81,600, are small entities that may be affected by our rules.

22. Common Carrier Services and Related Entities. According to data in the most recent Trends in Telephone Service report, issued by the Commission, there are 4,144 interstate carriers. These carriers include, inter alia, local exchange carriers, wireline carriers and service providers, interexchange carriers, competitive access providers, operator service providers, pay telephone operators, providers of telephone toll service, providers of telephone exchange service, and resellers.

23. The SBA has defined establishments engaged in providing “Radiotelephone Communications” and “Telephone Communications, Except Radiotelephone” to be small businesses when they have no more than 1,500 employees.

24. We have included small incumbent LECs in this present IRFA analysis. The SBA's Office of Advocacy contends that, for RFA purposes, small incumbent LECs are not dominant in their field of operation because any such dominance is not “national” in scope. The Commission has therefore included small incumbent LEC's in this IRFA analysis, although the Commission emphasizes that this RFA action has no effect on FCC analyses and determinations in other non-RFA contexts.

25. Total Number of Telephone Companies Affected. The U.S. Bureau of the Census (Census Bureau) reports that, at the end of 1992, there were 3,497 firms engaged in providing telephone services, as defined therein, for at least one year. This number contains a variety of different categories of carriers, including local exchange carriers, interexchange carriers, competitive access providers, cellular carriers, mobile service carriers, operator service providers, pay telephone operators, covered specialized mobile radio providers, and resellers. It seems certain that some of these 3,497 telephone service firms may not qualify as small entities or small ILECs because they are not “independently owned and operated.” It is reasonable to conclude that fewer than 3,497 telephone service firms are small entity telephone service firms or small ILECs that may be affected by the actions proposed in this Third NPRM.

26. Wireline Carriers and Service Providers. The SBA has developed a definition of small entities for telephone communications companies except radiotelephone (wireless) companies. The Census Bureau reports that there were 2,321 such telephone companies in operation for at least one year at the end of 1992. According to the SBA's definition, a small business telephone company other than a radiotelephone company is one employing no more than 1,500 persons. All but 26 of the 2,321 non-radiotelephone companies listed by the Census Bureau were reported to have fewer than 1,000 employees. Thus, even if all 26 of those companies had more than 1,500 employees, there would still be 2,295 non-radiotelephone companies that might qualify as small entities or small ILECs. We do not have data specifying the number of these carriers that are not independently owned and operated, and thus are unable at this time to estimate with greater precision the number of wireline carriers and service providers that would qualify as small business concerns under the SBA's definition. Consequently, we estimate that fewer than 2,295 small telephone communications companies other than radiotelephone companies are small entities or small ILECs that may be affected by the actions proposed in this Third NPRM.

27. Local Exchange Carriers, Competitive Access Providers, Competitive Local Exchange Carriers. Neither the Commission nor the SBA has developed a definition for small providers of local exchange service, competitive access providers, or competitive local exchange carriers. The closest applicable definition under the SBA rules is for telephone communications companies other than radiotelephone (wireless) companies. According to the most recent telecommunications industry revenue data, 1,348 carriers reported that they were engaged in the provision of incumbent local exchange services, and 212 carriers reported that they were providing competitive access or competitive local exchange services. The Commission does not have data specifying the number of these carriers that are not independently owned and operated, or have more than 1,500 employees, and thus is unable at this time to estimate with greater precision the number of providers and carriers that would qualify as small business concerns under the SBA's definition. Consequently, the Commission estimates that fewer than 1,560 providers of local exchange service, or of competitive access or competitive local exchange services are small entities or small entities that may be affected by the actions proposed in this Third NPRM.

28. Interexchange Carriers. Neither the Commission nor the SBA has developed a definition of small entities specifically applicable to providers of interexchange services (IXCs). The closest applicable definition under the SBA rules is for telephone communications companies other than radiotelephone (wireless) companies. According to the most recent Trends in Telephone Service data, 171 carriers reported that they were engaged in the provision of interexchange services. The Commission does not have data specifying the number of these carriers that are not independently owned and operated or have more than 1,500 employees, and thus is unable at this time to estimate with greater precision the number of IXCs that would qualify as small business concerns under the SBA's definition. Consequently, the Commission estimates that there are fewer than 171 small entity IXCs that may be affected by the actions proposed in this Third NPRM.

29. A-Block LMDS Providers. The total number of A-block LMDS licenses is limited to 493, one for each Basic Trading Area. The Commission has held auctions for all 493 licenses, in which it defined “very small business” (average gross revenues for the three preceding years of not more than $15 million), “small business” (more than $15 million but not more than $40 million), and “entrepreneur” (more than $40 but not more than $75 million) bidders. There have been 99 winning bidders that qualified in these categories in these auctions all of which may be affected by the actions proposed in this Third NPRM.

30. 220 MHz Radio Service—Phase I Licensees. The 220 MHz service has both Phase I and Phase II licenses. Phase I licensing was conducted by lotteries in 1992 and 1993. There are approximately 1,515 such non-nationwide licensees and four nationwide licensees currently authorized to operate in the 220 MHz band. The Commission has not developed a definition of small entities specifically applicable to such incumbent 220 MHz Phase I licensees. To estimate the number of such licensees that are small businesses, the Commission applies the definition under the SBA rules applicable to Radiotelephone Communications companies. This definition provides that a small entity is a radiotelephone company employing no more than 1,500 persons. According to the Bureau of the Census, only 12 radiotelephone firms out of a total of 1,178 such firms which operated during 1992 had 1,000 or more employees. Therefore, if this general ratio continues in 1999 in the context of Phase I 220 MHz licensees, the Commission estimates that nearly all such licensees are small businesses under the SBA's definition.

31. 220 MHz Radio Service—Phase II Licensees. The Phase II 220 MHz service is a new service, and is subject to spectrum auctions. The Commission has adopted criteria for defining small businesses and very small businesses for purposes of determining their eligibility for special provisions such as bidding credits and installment payments. The Commission has defined a small business as an entity that, together with its affiliates and controlling principals, has average gross revenues not exceeding $15 million for the preceding three years. Additionally, a very small business is defined as an entity that, together with its affiliates and controlling principals, has average gross revenues that are not more than $3 million for the preceding three years. The SBA has approved these definitions. The Commission has held two auctions for Phase II licenses for the 220 MHz band. Fifty-three (53) winning bidders qualified as small or very small entities.

32. Private and Common Carrier Paging. The Commission has proposed a two-tier definition of small businesses in the context of auctioning licenses in the Common Carrier Paging and exclusive Private Carrier Paging services. Under the proposal, a small business will be defined as either (1) an entity that, together with its affiliates and controlling principals, has average gross revenues for the three preceding years of not more than $3 million, or (2) an entity that, together with affiliates and controlling principals, has average gross revenues for the three preceding calendar years of not more than $15 million. Because the SBA has not yet approved this definition for paging services, the Commission will utilize the SBA's definition applicable to radiotelephone companies, i.e., an entity employing no more than 1,500 persons. At present, there are approximately 24,000 Private Paging licenses and 74,000 Common Carrier Paging licenses. According to the most recent Carrier Locator Interstate Service Providers data, 303 carriers reported that they were engaged in the provision of paging and messaging. The Commission does not have data specifying the number of these carriers that are not independently owned and operated or have more than 1,500 employees, and thus are unable at this time to estimate with greater precision the number of paging carriers that would qualify as small business concerns under the SBA's definition. Consequently, the Commission estimates that there are fewer than 303 small paging carriers that may be affected by the rules. The Commission estimates that the majority of private and common carrier paging providers would qualify as small entities under the SBA definition.

33. Mobile Service Carriers. Neither the Commission nor the SBA has developed a definition of small entities specifically applicable to mobile service carriers, such as paging companies. The closest applicable definition under the SBA rules is that for radiotelephone (wireless) companies, and the most recent Carrier Locator Interstate Service Providers data shows that 142 carriers reported that they were engaged in the provision of SMR dispatching and “other mobile” services. Consequently, the Commission estimates that there are fewer than 142 small mobile service carriers that may be affected by the proposed rules.

34. Broadband Personal Communications Service (PCS). The broadband PCS spectrum is divided into six frequency blocks designated A through F, and the Commission has held auctions for each block. The Commission defined “small entity” for Blocks C and F as an entity that has average gross revenues of less than $40 million in the three previous calendar years. For Block F, an additional classification for “very small business” was added and is defined as an entity that, together with their affiliates, has average gross revenues of not more than $15 million for the preceding three calendar years. These regulations defining “small entity” in the context of broadband PCS auctions have been approved by the SBA. No small businesses within the SBA-approved definition bid successfully for licenses in Blocks A and B. There were 90 winning bidders that qualified as small entities in the Block C auctions. A total of 93 small and very small business bidders won approximately 40% of the 1,479 licenses for Blocks D, E, and F. Based on this information, the Commission concludes that the number of small broadband PCS licensees will include the 90 winning C Block bidders and the 93 qualifying bidders in the D, E, and F blocks, for a total of 183 small entity PCS providers as defined by the SBA and the Commission's auction rules.

35. Narrowband PCS. The Commission has auctioned nationwide and regional licenses for narrowband PCS. There are 11 nationwide and 30 regional licensees for narrowband PCS. The Commission does not have sufficient information to determine whether any of these licensees are small businesses within the SBA-approved definition for radiotelephone companies. At present, there have been no auctions held for the major trading area (MTA) and basic trading area (BTA) narrowband PCS licenses. The Commission anticipates a total of 561 MTA licenses and 2,958 BTA licenses will be awarded by auction. Such auctions have not yet been scheduled, however. Given that nearly all radiotelephone companies have no more than 1,500 employees and that no reliable estimate of the number of prospective MTA and BTA narrowband licensees can be made, the Commission assumes, for purposes of this IRFA, that all of the licenses will be awarded to small entities, as that term is defined by the SBA.

36. Rural Radiotelephone Service. The Commission has not adopted a definition of small entity specific to the Rural Radiotelephone Service. A significant subset of the Rural Radiotelephone Service is the Basic Exchange Telephone Radio Systems. The Commission uses the SBA's definition applicable to radiotelephone companies, i.e., an entity employing no more than 1,500 persons. There are approximately 1,000 licensees in the Rural Radiotelephone Service, and the Commission estimates that almost all of them qualify as small entities under the SBA's definition.

37. Air-Ground Radiotelephone Service. The Commission has not adopted a definition of small entity specific to the Air-Ground Radiotelephone Service. Accordingly, the Commission will use the SBA's definition applicable to radiotelephone companies, i.e., an entity employing no more than 1,500 persons. There are approximately 100 licensees in the Air-Ground Radiotelephone Service, and the Commission estimates that almost all of them qualify as small under the SBA definition.

38. Specialized Mobile Radio (SMR). The Commission awards bidding credits in auctions for geographic area 800 MHz and 900 MHz SMR licenses to firms that had revenues of no more than $15 million in each of the three previous calendar years. In the context of both 800 MHz and 900 MHz SMR, this regulation defining “small entity” has been approved by the SBA; and the Commission has also received approval concerning 800 MHz SMR.

39. The proposed rules in the Third NPRM apply to SMR providers in the 800 MHz and 900 MHz bands that hold CMRS licenses. The Commission does not know how many firms provide 800 MHz or 900 MHz geographic area SMR service as CMRS operators, nor how many of these providers have annual revenues of no more than $15 million. One firm has over $15 million in revenues. The Commission assumes, for purposes of this IRFA, that all of the remaining existing SMR authorizations are held by small entities, as that term is defined by the SBA. For geographic area licensees in the 900 MHz SMR band there are 60 who qualified as small entities.

40. Offshore Radiotelephone Service. This service operates on several UHF TV broadcast channels that are not used for TV broadcasting in the coastal area of the States bordering the Gulf of Mexico. At present, there are approximately 55 licensees in this service. The Commission is unable at this time to estimate the number of licensees that would qualify as small under the SBA's definition for radiotelephone communications.

D. Description of Projected Reporting, Recordkeeping, and Other Compliance Requirements

41. The Third NPRM invites comment on a number of issues pertaining to the implementation of 911 as the universal emergency number in the United States, and the transition to 911 by carriers that provide emergency communication services but are not currently using 911. A certain amount of regulation or compliance requirements may be inherent in ensuring the smooth, efficient transition to 911. For example, telecommunications carriers' equipment must recognize the dialing code 911, and direct such calls along with certain other signaling and location information to the pre-designated location where personnel are available to receive reports of emergencies. A carriers' transition to the 911 emergency number may require development and operation of database systems, certain network modifications to current emergency dialing patterns, and upgrades in software and hardware. The Third NPRM seeks comment on all of the steps that carriers must undertake for that transition and suggested timeframes to complete those steps expeditiously. Further, the Commission conceivably could adopt a mechanism for monitoring the progress of this transition. One possibility is a requirement that carriers file transition reports with the Commission.

42. The Commission is hopeful that the Third NPRM will attract clearly developed comments that will suggest suitable means for achieving ubiquitous, efficient transition to 911 with as little regulatory burden on all parties as possible. In this effort, the Commission, in cooperation with all interested parties, seeks a reliable, efficient way to improve critical 911 service in light of the varying current conditions in communities throughout the country. The expeditious transition to universal 911 usage is an important step in reaching this goal.

E. Steps Taken To Minimize Significant Economic Impact on Small Entities, and Significant Alternatives Considered

43. The RFA requires an agency to describe any significant alternatives that it has considered in reaching its proposed approach, which may include the following four alternatives: (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

44. The purpose of the 911 Act is to encourage and facilitate the prompt deployment throughout the United States of a seamless, ubiquitous, and reliable end-to-end infrastructure for emergency communications, including wireless communications. Congress found that the establishment of a network that provided for the rapid, efficient deployment of emergency services would result in many public benefits, including faster delivery of emergency care with reduced fatalities and severity of injuries, and improved service in rural areas. Because of the critical life and death nature of the issues at stake in implementing 911 as a national emergency number, it is important that all parties involved, large or small, participate in the creation of this emergency infrastructure. Therefore, it is imperative that all entities participate in this rulemaking proceeding in order that the opinions about and the effect of the proposed rules on all entities be reflected in the comments filed herein. Thus, the Commission is limited in affording exceptions or providing benefits to small entities. Wherever possible, the Commission has afforded maximum flexibility and minimum burden on all affected parties. For example, in paragraphs 17-21 of the full text of the decision, the Commission makes it clear that it is aware that localities across the nation are currently at different stages of transitioning to 911, and that service-area specific circumstances and capabilities will serve to determine what the transition periods should be. In recognition of such diverse conditions, the Third NPRM further seeks specific input on what factors will affect the transition periods required by different categories of carriers and what timeframes would be necessary to accommodate such factors. In addition, where a locality has no PSAP or centralized emergency service program, because of the various logistical difficulties present in such a situation, the Commission tentatively conclude that it should not impose any particular obligation on carriers to transmit 911 calls in such localities or areas. The Third NPRM seeks comment on this tentative conclusion.

F. Federal Rules That May Duplicate, Overlap, or Conflict With the Proposed Rules

45. None.

Paperwork Reduction Act

46. The Third NPRM portion of this decision contains proposed a new paperwork collection. As part of its continuing effort to reduce paperwork burdens, the Commission invites the general public and the Office of Management and Budget (OMB) to take this opportunity to comment on the information collections contained in this Third NPRM, as required by the Paperwork Reduction Act of 1995, Public Law 104-13. Public and agency comments are due November 20, 2000. OMB comments are due January 17, 2001. Comments should address: (1) Whether the proposed collection of information is necessary for the proper performance of the functions of the Commission, including whether the information shall have practical utility; (2) the accuracy of the Commission's burden estimates; (3) ways to enhance the quality, utility, and clarity of the information collected; and (4) ways to minimize the burden of the collection of information on the respondents, including the use of automated collection techniques or other forms of information technology.

OMB Approval Number: None.

Title: Transition to 911 Emergency Service: Third Notice of Proposed Rulemaking.

Form No.: None.

Type of Review: New information collection.

Respondents: Business or other for profit and non-profit.

Number of Respondents: 200,000.

Estimated Time Per Response: 10 hours.

Total Annual Cost Burden: 0.

Total Annual Burden: 4,582,470 hours.

Needs and Uses: The proposed meetings, if adopted, would be used to encourage cooperation and to provide affected parties with an opportunity to interact with each, thus smoothing the path for a cohesive, responsive, dependable 911 emergency communications system. The proposed report, if adopted, would be used by the Commission to track the progress being made towards transferring to 911 and to judge how much support and encouragement the Commission might provide to the various affected parties.

Ordering Clauses

47. Pursuant to sections 1, 4(i), 4(j), 7, 10, 201, 202, 208, 214, 251(e)(3), 301, 303, 308, 309(j), and 310 of the Communications Act of 1934, as amended, 47 U.S.C. 151, 154(i), 154(j), 157, 160, 201, 202, 208, 214, 251(e)(3), 301, 303, 308, 309(j), and 310, the Third NPRM in CC Docket No. 92-105 is hereby adopted.

48. The Commission's Consumer Information Bureau, Reference Information Center, shall send a copy of this Third NPRM including this IRFA, to the Chief Counsel for Advocacy of the Small Business Association.

Federal Communications Commission.
William F. Caton,
Deputy Secretary.

[FR Doc. 00-24111 Filed 9-18-00; 8:45 am]

BILLING CODE 6712-01-P